DEPARTMENT OF LABOR

Employment and Training Administration

[TA-W-39,615]

Allegheny Ludlum Steel, Brackenridge, PA; Amended Certification Regarding Eligibility To Apply for Worker Adjustment Assistance

In accordance with Section 223 of the Trade Act of 1974 (19 U.S.C. 2273) the Department of Labor issued a Certification of Eligibility to Apply for Worker Adjustment Assistance on July 16, 2001, applicable to workers of Allegheny Ludlum Steel, Brackenridge, Pennsylvania. The notice was published in the Federal Register on August 6, 2001 (FR 66 41053).

At the request of the State agency, the Department reviewed the certification for workers of the subject firm. The workers are engaged in employment related to the production of cold rolled grain oriented electrical steel.

New findings show that there was a previous certification, TA-W-35,185, issued on November 20, 1998, for workers of Allegheny Ludlum Steel, Brackenridge, Pennsylvania who were engaged in employment related to the production of cold rolled grain oriented electrical steel. That certification expired November 20, 2000. To avoid an overlap in worker group coverage, this certification is being amended to change the impact date from July 16, 2000 to November 21, 2000, for workers of the subject firm.

The amended notice applicable to TA-W-39,615 is hereby issued as follows:

All workers of Allegheny Ludlum Steel, Brackenridge, Pennsylvania who became totally or partially separated from employment on or after November 21, 2000, through July 16, 2003, are eligible to apply for adjustment assistance under Section 223 of the Trade Act of 1974.

Signed at Washington, DC this 4th day of September, 2001.
Edward A. Tomchick,
Director, Division of Trade Adjustment Assistance.

[FR Doc. 01-23528 Filed 9-20-01; 8:45 am]

BILLING CODE 4510-30-M